DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and Title 30 of the Code of Federal Regulations Part 44 govern the application, processing, and disposition of petitions for modification. This notice is a summary of petitions for modification submitted to the Mine Safety and Health Administration (MSHA) by the parties listed below.

DATES: All comments on the petitions must be received by MSHA's Office of Standards, Regulations, and Variances on or before September 19, 2016.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452; Attention: Sheila McConnell, Director, Office of Standards, Regulations, and Variances. Persons delivering documents are required to check in at the receptionist's desk in Suite 4E401. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2016-002-M.

Petitioner: United Salt Hockley, LLC, 14002 Warren Ranch Road, Hockley, Texas 77447.

Mine: Hockley Mine, MSHA I.D. No. 41-02478, located in Marshall Harris County, Texas.

Regulation Affected: 30 CFR 57.4131 (Surface fan installations and mine openings).

Modification Request: The petitioner requests that the previously granted petition for modification, Docket Number M-81-41-M be amended for the Hockley Mine, to meet the modern needs of the mine and to clarify the meaning and intent of the modifications. The petitioner states that:

(1) The purpose for amending the previously granted petition, docket number M-81-41-M, is to clarify any confusion relating to the location of fire sensors and the equipment used to alert miners to a fire. A strategic location for a fire sensor may change as the mine continues to expand, therefore the petitioner suggests that the consultant review the system and sensor locations every five years and make suggestions for any updates subject to MSHA's review and approval.

(a) Paragraph 1 of the previously granted petition reads as follows:

—Fire detection systems shall be installed with sensors at strategic locations throughout the mill building. An alarm indicating the fire location shall be provided in the main shaft hoist house and in the vicinity of the bottom of the first floor stairway to the upper floors. An alarm indicating a mill building fire shall be located in the mine office. The final locations shall be approved by MSHA as an integral part of the mine's emergency procedures.

(b) The petitioner proposes to amend Paragraph 1 to read as follows:

—A fire detection system will be installed with sensors at strategic locations throughout the mill building. An annunciator to indicate, at a minimum, the mill building fire location will be provided in the mine office, the main shaft hoist house, and in the vicinity of the bottom of the first floor stairway to the upper floors. Beginning in 2016, a fire protection consultant will be hired every five years to review the fire detection system. MSHA will review and approve any consultant suggestions, and modification or additions will be made an integral part of the mine's emergency procedures.

(2) The purpose of this amendment to the previously granted petition is to clarify the duties of miners once a fire has been detected. This language ensures that certain duties will be performed by trained miners regardless of the working shift or time of day.

(a) Paragraph 2 of the previously granted petition reads as follows:

—The emergency procedures shall stipulate that all booster and auxiliary fans below ground shall be stopped coincidently with the initiation of a surface fire alarm and attendant stoppage of a main mine fan.

(b) The petitioner proposes to amend Paragraph 2 to read as follows:

—The Mine Emergency Plan will designate a responsible person for a mining position per shift, and the responsibilities specified will become part of the job duties of any miner assigned to each relevant mining position during their shift. The Mine Emergency Plan will define the responsible person for all shifts and each miner responsible for such a mining position will receive training in their duties as a responsible person in the event of a fire on the surface or in the shaft. In the event of a fire on the surface or in the shaft, a responsible person on the surface will immediately start the escape shaft fan and will stay in attendance at the fan to assure continued operation. Another responsible person will be responsible for stopping all surface fans and for cutting off the electric power to the underground mine. In the event of a mine fire underground, the main mine power and main mine fan controls will be guarded by a responsible person to ensure there are no status changes unless directed by management to make a status change. The power and mine fan may be off or on depending on work activities, thus the status change would affect conditions in the mine that could endanger the miners. This will ensure that no power or ventilation changes that may affect the miner's safety are made before mine management is able to evaluate the benefits and disadvantages of such changes. The electrical power and fan control locations will be included in the Mine Emergency Plan.

The petitioner further states that MSHA investigators conducted a meeting at the mine site, reviewed the petitioner's proposed amendments to ensure that the proposed alternative method is in compliance with the standard and will at all times guarantee no less than the same measure of protection afforded by the standard.

Docket Number: M-2016-003-M.

Petitioner: United Salt Hockley, LLC, 14002 Warren Ranch Road, Hockley, Texas 77447.

Mine: Hockley Mine, MSHA I.D. No. 41-02478, located in Harris County, Texas.

Regulation Affected: 30 CFR 57.4560 (Mine entrances).

Modification Request: The petitioner requests that the previously granted petition for modification, Docket Number M-81-42-M be amended for the Hockley Mine, to meet the modern needs of the mine and to clarify the meaning and intent of the modifications. The petitioner states that:

(1) The purpose for amending the previously granted petition, docket number M-81-42-M, is to clarify any confusion relating to the location of fire sensors and the equipment used to alert miners to a fire. A strategic location for a fire sensor may change as the mine continues to expand, therefore the petitioner suggests that the consultant review the system and sensor locations every five years and make suggestions for any updates subject to MSHA's review and approval.

(a) Paragraph 1 of the previously granted petition reads as follows:

—Fire detection systems shall be installed with sensors at strategic locations throughout the mill building. An alarm indicating the fire location shall be provided in the main shaft hoist house and in the vicinity of the bottom of the first floor stairway to the upper floors. An alarm indicating a mill building fire shall be located in the mine office. The final locations shall be approved by MSHA as an integral part of the mine's emergency procedures.

(b) The petitioner proposes to amend Paragraph 1 to read as follows:

—A fire detection system will be installed with sensors at strategic locations throughout the mill building. An annunciator to indicate, at a minimum, the mill building fire location will be provided in the mine office, the main shaft hoist house, and in the vicinity of the bottom of the first floor stairway to the upper floors. Beginning in 2016, a fire protection consultant will be hired every five years to review the fire detection system. MSHA will review and approve any consultant suggestions and modification or additions will be made an integral part of the mine's emergency procedures.

(2) The purpose of this amendment to the previously granted petition is to clarify the duties of miners once a fire has been detected. This language ensures that certain duties will be performed by trained miners regardless of the working shift or time of day.

(a) Paragraph 2 of the previously granted petition reads as follows:

—The emergency procedures shall stipulate that all booster and auxiliary fans below ground shall be stopped coincidently with the initiation of a surface fire alarm and attendant stoppage of a main mine fan.

(b) The petitioner proposes to amend Paragraph 2 to read as follows:

—The Mine Emergency Plan will designate a responsible person for a mining position per shift, and the responsibilities specified will become part of the job duties of any miner assigned to each relevant mining position during their shift. The Mine Emergency Plan will define the responsible person for all shifts and each miner responsible for such a mining position will receive training in their duties as a responsible person in the event of a fire on the surface or in the shaft. In the event of a fire on the surface or in the shaft, a responsible person on the surface will immediately start the escape shaft fan and will stay in attendance at the fan to assure continued operation. Another responsible person will be responsible for stopping all surface fans and for cutting off the electric power to the underground mine. In the event of a mine fire underground, the main mine power and main mine fan controls will be guarded by a responsible person to ensure there are no status changes unless directed by management to make a status change. The power and mine fan may be off or on depending on work activities, thus the status change would affect conditions in the mine that could endanger the miners. This will ensure that no power or ventilation changes that may affect the miner's safety are made before mine management is able to evaluate the benefits and disadvantage of such changes. The electrical power and fan control locations will be included in the Mine Emergency Plan.

The petitioner further states that MSHA investigators conducted a meeting at the mine site, reviewed the petitioner's proposed amendments to ensure that the proposed alternative method is in compliance with the standard and will at all times guarantee no less than the same measure of protection afforded by the standard.

Docket Number: M-2016-004-M.

Petitioner: United Salt Hockley, LLC, 14002 Warren Ranch Road, Hockley, Texas 77447.

Mine: Hockley Mine, MSHA I.D. No. 41-02478, located in Harris County, Texas.

Regulation Affected: 30 CFR 57.4533 (Mine opening vicinity).

Modification Request: The petitioner requests that the previously granted petition for modification, Docket Number M-81-43-M be amended for the Hockley Mine, to meet the modern needs of the mine and to clarify the meaning and intent of the modifications. The petitioner states that:

(1) The purpose for amending the previously granted petition, docket number M-81-43-M, is to clarify any confusion relating to the location of fire sensors and the equipment used to alert miners to a fire. A strategic location for a fire sensor may change as the mine continues to expand, therefore the petitioner suggests that the consultant review the system and sensor locations every five years and make suggestions for any updates subject to MSHA's review and approval.

(a) Paragraph 1 of the previously granted petition reads as follows:

—Fire detection systems shall be installed with sensors at strategic locations throughout the mill building. An alarm indicating the fire location shall be provided in the main shaft hoist house and in the vicinity of the bottom of the first floor stairway to the upper floors. An alarm indicating a mill building fire shall be located in the mine office. The final locations shall be approved by MSHA as an integral part of the mine's emergency procedures.

(b) The petitioner proposes to amend Paragraph 1 to read as follows:

—A fire detection system will be installed with sensors at strategic locations throughout the mill building. An annunciator indicating at a minimum the fire location, will be provided in the mill building, the mine office, the main shaft hoist house, and in the vicinity of the bottom of the first floor stairway to the upper floors. Beginning in 2016, a fire protection consultant will be hired every five years to review the fire detection system. MSHA will review and approve any consultant suggestions, and modification or additions will be made an integral part of the mine's emergency procedures.

(2) The purpose of this amendment to the previously granted petition is to clarify the duties of miners once a fire has been detected. This language ensures that certain duties will be performed by trained miners regardless of the working shift or time of day.

(a) Paragraph 2 of the previously granted petition reads as follows:

—The emergency procedures shall stipulate that all booster and auxiliary fans below ground shall be stopped coincidently with the initiation of a surface fire alarm and attendant stoppage of a main mine fan.

(b) The petitioner proposes to amend Paragraph 2 to read as follows:

—The Mine Emergency Plan will designate a responsible person for a mining position per shift, and the responsibilities specified will become part of the job duties of any miner assigned to each relevant mining position during their shift. The Mine Emergency Plan will define the responsible person for all shifts and each miner responsible for such a mining position will receive training in their duties as a responsible person in the event of a fire on the surface or in the shaft. In the event of a fire on the surface or in the shaft, a responsible person on the surface will immediately start the escape shaft fan and will stay in attendance at the fan to assure continued operation. Another responsible person will be responsible for stopping all surface fans and for cutting off the electric power to the underground mine. In event of a mine fire underground, the main mine power and main mine fan controls will be guarded by a responsible person to ensure there are not status changes unless directed by management to make a status change. The power and mine fan may be off or on depending on work activities, thus the status change would affect conditions in the mine that could endanger the miners. This will ensure that no power or ventilation changes that may affect the miner's safety are made before mine management is able to evaluate the benefits and disadvantage of such changes. The electrical power and fan control locations will be included in the Mine Emergency Plan.

The petitioner further states that MSHA investigators conducted a meeting at the mine site, reviewed the petitioner's proposed amendments to ensure that the proposed alternative method is in compliance with the standard and will at all times guarantee no less than the same measure of protection afforded by the standard.

Docket Number: M-2016-005-M.

Petitioner: United Salt Hockley, LLC, 14002 Warren Ranch Road, Hockley, Texas 77447.

Mine: Hockley Mine, MSHA I.D. No. 41-02478, located in Harris County, Texas.

Regulation Affected: 30 CFR 57.4760 (Shaft mines).

Modification Request: The petitioner requests that the previously granted petition for modification, Docket Number M-86-1-M be amended for the Hockley Mine, to meet the modern needs of the mine and to clarify the meaning and intent of the modifications. The petitioner states that:

(1) The purpose for amending the previously granted petition, docket number M-86-1-M, is to clarify what steps miners will follow in the event there is a loss of power underground. The amendment proposes an additional measure where a responsible person will be designated during each shift based on the mining position's job duties who will communicate via radio.

(a) Paragraph 4 of the previously granted petition reads as follows:

—An audible alarm switch shall be located within two (2) intersections from any active mining face or bench face. The alarm switches shall be identified by an electric light and activation of the switches shall energize the mine-wide audible alarms. The sounding of the alarm shall cause the Mine Emergency Plan to be followed immediately.

(b) The petitioner proposes to amend Paragraph 4 to read as follows:

—An audible alarm switch will be located within two (2) intersections from any active mining face or bench face. The alarm switches will be identified by an electric light and activation of the switches will energize the mine-wide audible alarms. In the event power is lost in the mine or shut-off in response to an emergency situation, miners will immediately begin following the Mine Emergency Plan to evacuate to the refuge chamber, and be alerted via radio communication of an emergency. The sounding of the alarm or any loss of power will cause the Mine Emergency Plan of evacuation to the refuge chamber to be implemented. A responsible person, preferably the lead man on each shift, will be designated in the Mine Emergency Plan to notify the miners via radio communication of an emergency and to instruct all miners to evacuate to the refuge chamber immediately.

(2) The purpose of this amendment to the previously granted petition is to allow the evacuation plan to meet the needs of the current mine as old and new corridors are continuously being closed off and created respectively as salt is actively mined.

(a) Paragraph 5 of the previously granted petition reads as follows:

—The intersections immediately to the west of the refuge chamber (from 11S entry to 8W entry) will be maintained to provide access to the refuge area from the mining areas on the south side of the mine.

(b) The petitioner proposes to amend Paragraph 5 to read as follows:

— Safe travel ways and escape ways will be marked on the mine map and included in the mine escape and evacuation plan. The travel and escape ways will be updated as necessary to indicate changes as mining areas change. On hour Self-Contained Self-Rescuers (SCSR) will be stored in strategic locations which will be detailed in the Mine Emergency Plan and Mine Map. Miners will be trained on proper use of the SCSR's as required in Part 48.

(3) The purpose of this amendment to the previously granted petition is to clarify the miner responsible for certain emergency response activities by assigning these tasks to a mining position. This will ensure that a miner trained for these duties is on-site at all times when the mine is in operation.

(a) Paragraph 6 of the previously granted petition reads as follows:

—In the event of a fire alarm on the surface, in the shaft, or in the underground mine, a designated person on the surface shall immediately start the borehole fan and stay in attendance at that fan to assure its continued operation. Another designated person shall be responsible for stopping all surface fans and for cutting off the electric power to the underground mine. The electrical power and fan control locations and operational assignments shall be included in the escape and evacuation plan for the mine.

(b) The petitioner proposes to amend Paragraph 6 to read as follows:

—The Mine Emergency Plan will designate a responsible person for a mining position per shift, and the responsibilities specified will become part of the job duties of any miner assigned to each relevant mining position during their shift. The Mine Emergency Plan will define the responsible person for all shifts and each miner responsible for such a mining position will receive training in their duties as a responsible person in the event of a fire on the surface, in the shaft, or in the underground mine. In the event of a fire alarm on the surface or in the shaft, a responsible person on the surface will immediately start the escape shaft fan and will stay in attendance at the fan to assure continued operation. Another responsible person will stop the surface mine fan and cut off the electric power to the underground mine. In the event of a mine fire underground, the main mine power and main mine fan controls will be guarded by a designated miner to ensure there are no status changes unless directed by management to make a status change. The power and mine fan may be off or on depending on work activities, so the status change would affect conditions in the mine that could endanger the miners. This will ensure that no power or ventilation changes that may affect the miner's safety are made before mine management is able to evaluate the benefits and disadvantage of such changes. The electrical power and fan control locations and operational assignments will be included in the escape and evacuation plan for the mine.

(4) The purpose of the amendment to the previously granted petition is to establish communication protocol in the event of a loss of power.

(a) Paragraph 7 of the previously granted petition reads as follows:

—An emergency alarm siren network will be maintained as the primary warning system of an emergency or fire for personnel in the underground mine.

(b) The petitioner proposes to amend Paragraph 7 to read as follows:

—An emergency alarm siren network will be maintained as the primary warning system of an emergency or fire for personnel in the underground mine. Radio communication may be used in the event of power loss or intentional power shutdown. Any additional forms of communication and/or warning systems installed in the mine will be included in the Mine Emergency Plan and all miners will receive up-to-date training.

(5) The purpose for adding this amendment to the previously granted petition is to further reinforce the fire resistance of the mine fan duct.

(a) The petitioner proposes to add Paragraph 8 to the amended petition to read as follows:

—The mine fan duct from the mine fan to the shaft collar will be constructed of non-flammable or fire resistant material by December 31, 2016.

The petitioner further states that MSHA investigators conducted a meeting at the mine site, reviewed the petitioner's proposed amendments to ensure that the proposed alternative method is in compliance with the standard and will at all times guarantee no less than the same measure of protection afforded by the standard.

Docket Number: M-2016-024-C.

Petitioner: Signal Peak Energy, LLC, 100 Portal Drive, Roundup, Montana 59072.

Mine: Bull Mountain Mine #1, MSHA I.D. No. 24-01950, located in Musselshell County, Montana.

Regulation Affected: 30 CFR 75.312(c) (Main mine fan examinations and records).

Modification Request: The petitioner requests a modification of the existing standard to permit fan tests to be performed without shutting the fan down and without removing miners from the mine. The Petitioner states that:

(1) Stopping the fan for testing introduces contaminants into the mine atmosphere from the worked out area behind the longwall tailgate. In addition, any delay of a fan restart beyond 15 minutes after shutdown for testing could result in a lengthy restart of the mine operating systems. The petitioner's alternative method will result in the fan alarm signal being verified by a responsible person at a surface location where the responsible person is always on duty whenever anyone is underground. A report of all tests will be recorded.

(2) A valve would be installed in the system monitoring the water gauge of the fan pressure monitoring system. The water gauge installed at the mine is actually a Magnehelic gauge with electronic pickups, which are integrated into the atmospheric monitoring system (AMS). When the valve is closed, the AMS will detect zero fan pressure and activate the alarm.

(3) When the fan stoppage signal system is tested, an audible fan signal alarm sounds at the location where a responsible person is on duty, verifying the performance of the fan alarm signal system. The responsible person is provided with two-way communication to working sections and work stations.

(4) Every 5 to 7 months, each automatic fan signal device and signal alarm will be tested by stopping the fan to ensure that the automatic signal device causes the alarm to activate when the fan shuts down.

(5) The petitioner will notify the District Manager (DM) when the fan is equipped with the fan alarm signal system. This permits MSHA to make an inspection prior to testing the alarm in accordance with the Proposed Decision and Order (PDO). If required by the DM, the test procedure will be demonstrated and the fan will be shut down during MSHA's inspection to verify that the automatic fan signal activates an alarm at the location of the responsible person.

(6) Until the fan is equipped in compliance with the PDO, the miners must be removed from the mine for the testing of any fan not yet equipped as required.

(7) By the end of the shift on which the test of the automatic fan signal devices is completed, the person(s) performing the test(s) will record the result of test(s) in a secure book. The record book will be retained at a surface location at the mine for at least one year and will be made available for inspection by an authorized representative of the Secretary and the representative of miners. The recordings will also indicate the general repair of the system.

(8) Within 60 days of this petition being granted, the petitioner will submit proposed revisions for its approved part 48 training plan to the DM. The revisions will include initial and refresher training regarding compliance with the PDO.

(9) Persons who are to perform the tests must be specifically trained on the proper method of testing upon initial assignment to these responsibilities and annually thereafter.

The petitioner asserts that the proposed alternative method will at all times guarantee no less the same measure of protection afforded by the standard.

Docket Number: M-2016-025-C.

Petitioner: Ohio County Coal Company, 1107 Golden Ridge Road, Dallas, West Virginia 26036.

Mine: Ohio County Mine, MSHA I.D. No. 46-01436, located in Marshall County, West Virginia.

Regulation Affected: 30 CFR 77.1914(a) (Electrical equipment).

Modification Request: The petitioner requests a modification of the existing standard to permit the use of 480-volt, three-phase, alternating current submersible pumps to dewater completed ventilation shafts prior to being put into service. The petitioner states that:

(1) The three-phase, 480-volt alternating current electric power circuit for the pump will be designed and installed to:

(a) Contain either a direct or derived neutral wire that will be grounded through a suitable resistor at the source transformer or power center and through a grounding circuit originating at the ground side of the grounding resistor, which will extend along with the power conductor and serve as the grounding conductor for the frame of the pump and all associated electric equipment that may be supplied power from this circuit.

(b) Contain a grounding resistor that limits the ground-fault current to not more than 25 amperes.

(c) The grounding resistor(s) will be rated for the maximum fault current available and will be insulated from ground for a voltage equal to the phase-to-phase voltage of the system.

(2) The 480-volt pump circuit will have a suitable circuit interrupting device of adequate interrupting capacity, with devices to protect against under-voltage, grounded phase, short-circuit, and overload.

(3) The under-voltage protection device will operate on a loss-of-voltage to prevent automatic restarting of the equipment.

(4) The grounded phase protection device will be provided as follows:

(a) The grounded phase protection device will be set not to exceed 40 percent of the current rating of the neutral grounding resistor.

(b) The 480-volt circuit will also have an undercurrent relay device to prevent closing the breaker when a phase to ground fault condition exists on the system, and a test circuit that will inject a test current through the grounded phase current transformer.

(5) The short-circuit protection device will be set not to exceed the required short-circuit protection for the power cable or 75 percent of the minimum available phase-to-phase short-circuit current, whichever is less.

(6) The circuit will include a disconnecting device located on the surface and installed in conjunction with the circuit breaker to provide a means for visual evidence that the power is disconnected from the pump circuits, and a means to lock and tag-out the system.

(7) The pump power system will include a fail-safe ground check circuit, or other no less effective device approved by MSHA that will cause the circuit breaker to open when either the ground or pilot wire is broken. A manually operated test switch will be provided to verify the operation ground check device. The device will be installed and maintained operable to monitor the ground continuity from the starter box to the pump.

(8) The pump(s) electric control circuit(s) will be designed and installed so that the pump(s) cannot start and/or run in the automatic mode if the water is below the low-water probe level. The low-water probe will be positioned to maintain at least 12 inches above the inlet of the pump and electrical connections of the pump motor. The low-water probe will be suitable for submersible pump control application. All probe circuits will be intrinsically safe. A motor controller will be provided and used for pump startup and shutdown.

(9) The pump installation will be equipped with a water level indicator at the pump circuit controls such that a miner can determine the water level is above the pump inlet and electrical connectors.

(10) The surface pump(s) control and power circuits will be examined as required by 30 CFR 77.502, as follows:

(a) A record of the examinations will be kept in accordance with 30 CFR 77.502 and 77.502-2.

(b) The examinations will include a functional test of the grounded phase protective device(s) to determine proper operation.

(c) A record of the functional tests will be recorded in an electrical equipment record book.

(d) Prior to placing the pump into service an electrical examination will be performed.

(e) Methane checks will be made at the collar of the borehole prior to energizing the pump. The pump will not be energized if 1.0 percent or greater of methane is detected.

(11) The power cable to the submersible pump motor will be suitable for this application and have a current carrying capacity not less than 125 percent of the full load current of the submersible pump motor and an outer jacket suitable for a “wet location”.

(12) Splices and connections made in submersible pump cable will be made in a workmanlike manner and will meet the requirements of 30 CFR 75.604. The pump installations will comply with all other applicable 30 CFR requirements.

(13) The District Manager (DM) will be notified prior to dewatering any shaft using a nonpermissible submersible pump, and the required shaft plan will include this notification.

(14) Within 60 days after this petition for modification is granted, the petitioner will submit proposed revisions for their approved part 48 training plan to the DM. The proposed revisions will specify task training for all qualified electricians who perform electric work and monthly electric examinations as required by 30 CFR 77.502 and refresher training regarding the alternative method outlined in the petition and the terms and conditions stated in the Proposed Decision and Order. The training will include the following elements:

(a) The hazards that could exist if the water level falls below the pump inlet or the electric connections of the pump motor.

(b) The safe restart procedures, which will include the miner determining that the water level is above the pump inlet and pump motor prior to attempting to establish power and start the pump motor.

(15) The procedures of 30 CFR 48.3 for approval of proposed revisions to already approved training plans will apply.

The petitioner further states that:

1. Upon completion of excavation/construction of a shaft, the shaft begins to accumulate water and personnel are never required to go below the collar of the shaft for dewatering purposes.

2. In case there is a blind drilled shaft, the shaft is fully lined with steel casing and is grouted in place. This steel casing and grout seal isolates the completed blind drilled shaft from any coal seams, mitigating any possibility for methane to enter the blind drilled shaft.

3. In the case of a conventionally constructed shaft, ventilation devices are installed to ensure that potential methane accumulations are mitigated. Dewatering significantly minimizes the chance of these devices becoming compromised. The electric motor of any submersible pump is located below the pump intake making it impossible for the motor to be above the surface of the water.

4. Currently there are no electric submersible motor/pump assemblies manufactured that will effectively pump water at the current and future depths of mine workings that are permissible as required by 30 CFR 77.1914(a).

5. The alternative method outlined in this petition is consistent with prudent engineering design pursuant to 30 CFR 77.1900 since it minimizes the hazards to those employed in the initial or subsequent development of the shaft.

The petitioner asserts that the proposed alternative method will at all times guarantee no less than the same measure of protection afforded by the existing standard.

Sheila McConnell,
Director, Office of Standards, Regulations, and Variances.

[FR Doc. 2016-19803 Filed 8-18-16; 8:45 am]

BILLING CODE 4520-43-P